DEPARTMENT OF COMMERCE

National Oceanic and Atmospheric Administration

50 CFR Part 622

[Docket No. 120403249-2492-02]

RIN 0648-XE088

Snapper-Grouper Fishery of the South Atlantic; 2015 Recreational Accountability Measure and Closure for South Atlantic Hogfish

AGENCY: National Marine Fisheries Service (NMFS), National Oceanic and Atmospheric Administration (NOAA), Commerce.

ACTION: Temporary rule; closure.

SUMMARY: NMFS implements accountability measures (AMs) for the hogfish recreational sector in the exclusive economic zone (EEZ) of the South Atlantic for the 2015 fishing year through this temporary rule. NMFS estimates recreational landings from the 2014 and 2015 fishing years have exceeded the recreational annual catch limit (ACL) for hogfish. Therefore, NMFS reduces the length of the 2015 recreational fishing season, i.e., closes the recreational sector, for hogfish in the South Atlantic EEZ on August 24, 2015. This closure is necessary to protect the hogfish resource.

DATES: This rule is effective 12:01 a.m., local time, August 24, 2015, until 12:01 a.m., local time, January 1, 2016.

FOR FURTHER INFORMATION CONTACT: Britni LaVine, NMFS Southeast Regional Office, telephone: 727-824-5305, email: britni.lavine@noaa.gov.

SUPPLEMENTARY INFORMATION: The snapper-grouper fishery of the South Atlantic includes hogfish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The recreational ACL for hogfish is 85,355 lb (38,716 kg) and was implemented through Regulatory Amendment 13 to the FMP (78 FR 36113, June 17, 2013). In accordance with regulations at 50 CFR 622.193(u)(2), if recreational landings exceed the recreational ACL, then NMFS will monitor recreational landings for a persistence in increased landings during the following fishing year. If necessary, the Assistant Administrator, NMFS (AA), will file a notification with the Office of the Federal Register to reduce the length of the following fishing season by the amount necessary to ensure landings do not exceed the recreational ACL in the following fishing year.

During the 2014 fishing year, hogfish recreational landings exceeded the recreational ACL by 26,448 lb (11,996 kg). For the 2015 fishing year, preliminary landings data from the NMFS Southeast Fisheries Science Center indicate that the hogfish recreational ACL has been exceeded by 142,364 lb (64,575 kg). Therefore, this temporary rule implements an AM to reduce the length of the hogfish recreational sector (i.e., close the recreational sector) of the snapper-grouper fishery for the remainder of the 2015 fishing year. As a result, the recreational sector for hogfish in the South Atlantic EEZ will be closed effective 12:01 a.m., local time August 24, 2015.

During the closure, the bag and possession limits for hogfish in or from the South Atlantic EEZ are zero. The recreational sector for hogfish will reopen on January 1, 2016, the beginning of the 2016 recreational fishing season.

Classification

The Regional Administrator, Southeast Region, NMFS, has determined this temporary rule is necessary for the conservation and management of hogfish and the South Atlantic snapper-grouper fishery and is consistent with the Magnuson-Stevens Act and other applicable laws.

This action is taken under 50 CFR 622.193(u)(2) and is exempt from review under Executive Order 12866.

These measures are exempt from the procedures of the Regulatory Flexibility Act because the temporary rule is issued without opportunity for prior notice and public comment.

This action responds to the best scientific information available. The Assistant Administrator for Fisheries, NOAA (AA), finds that the need to immediately implement this action to close the recreational sector for hogfish constitutes good cause to waive the requirements to provide prior notice and opportunity for public comment on this temporary rule pursuant to 5 U.S.C. 553(b)(B), because such procedures are unnecessary and contrary to the public interest. Such procedures are unnecessary because the AMs established by the Comprehensive ACL Amendment (77 FR 15916, March 16, 2012) and located at 50 CFR 622.193(u)(2) have already been subject to notice and public comment. All that remains is to notify the public of the reduced recreational season (recreational closure) for hogfish for the remainder of the 2015 fishing year. Such procedures are contrary to the public interest because of the need to immediately implement this action to protect the hogfish resource, since time for notice and public comment will allow for continued recreational harvest and further exceedance of the recreational ACL.

For the aforementioned reasons, the AA also finds good cause to waive the 30-day delay in the effectiveness of this action under 5 U.S.C. 553(d)(3).

Authority: 16 U.S.C. 1801 et seq.

Alan D. Risenhoover,
Director, Office of Sustainable Fisheries, National Marine Fisheries Service.

[FR Doc. 2015-20596 Filed 8-17-15; 4:15 pm]

BILLING CODE 3510-22-P